DEPARTMENT OF TRANSPORTATION

Federal Aviation Administration

14 CFR Part 39

[Docket No. FAA-2020-0270; Product Identifier 2019-SW-018-AD]

RIN 2120-AA64

Airworthiness Directives; Bell Helicopter Textron, Inc. Helicopters

AGENCY: Federal Aviation Administration (FAA), DOT.

ACTION: Notice of proposed rulemaking (NPRM).

SUMMARY: The FAA proposes to adopt a new airworthiness directive (AD) for Bell Helicopter Textron, Inc. (Bell) Model 205B helicopters. This proposed AD was prompted by flight testing and fatigue analysis results. This proposed AD would require reducing the life limit of certain tail rotor (T/R) blades and re-identifying them with a new part number (P/N). The FAA is proposing this AD to address the unsafe condition on these products.

DATES: The FAA must receive comments on this proposed AD by May 11, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Bell Helicopter Textron, Inc., P.O. Box 482, Fort Worth, TX 76101; telephone 817-280-3391; fax 817-280-6466; or at https://www.bellcustomer.com. You may view the referenced service information at the FAA, Office of the Regional Counsel, Southwest Region, 10101 Hillwood Pkwy, Room 6N-321, Fort Worth, TX 76177.

Examining the AD Docket

You may examine the AD docket on the internet at https://www.regulations.gov by searching for and locating Docket No. FAA-2020-0270; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Kuethe Harmon, Safety Management Program Manager, DSCO Branch, Compliance & Airworthiness Division, FAA, 10101 Hillwood Pkwy., Fort Worth, TX 76177; telephone 817-222-5198; email kuethe.harmon@faa.gov.

SUPPLEMENTARY INFORMATION:

Comments Invited

The FAA invites you to send any written relevant data, views, or arguments about this proposal. Send your comments to an address listed under the ADDRESSES section. Include “Docket No. FAA-2020-0270; Product Identifier 2019-SW-018-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

The FAA proposes to adopt a new AD for Bell Model 205B helicopters with a T/R blade P/N 212-010-750-009 or 212-010-750-105 installed. Flight testing and fatigue analysis by Bell indicates that these part-numbered T/R blades sustain greater loads when installed on Bell Model 205B helicopters compared to their use on other model helicopters. The proposed actions are intended to prevent a T/R blade remaining in service beyond its fatigue life, resulting in failure of the T/R blade and subsequent loss control of the helicopter.

Related Service Information

The FAA reviewed Bell Helicopter Textron Alert Service Bulletin No. 205B-98-27, dated June 1, 1998, for Model 205B helicopters. This service information specifies reducing the life limit of T/R blade P/N 212-010-750-009 and 212-010-750-105 to 2,500 hours TIS and assigning these blades a new dash number by vibro-etching a new P/N on the T/R blade data and annotating the historical record card.

FAA's Determination

The FAA is proposing this AD after evaluating all the relevant information and determining that the unsafe condition described previously is likely to exist or develop in other products of the same type design.

Proposed AD Requirements

This proposed AD would require, before further flight, reducing the life limit of each affected T/R blade from 5,000 hours TIS to 2,500 hours TIS; re-identifying the T/R blade P/N on its data plate by vibro-etching to change the last three digits of the existing P/N; creating a component history card or equivalent record; and revising the Airworthiness Limitations section of the maintenance manual for your helicopter to annotate the new P/N and revised life limit. Finally, this proposed AD would prohibit installing any affected T/R blade that has not met the AD requirements.

Costs of Compliance

The FAA estimates that this proposed AD would affect 2 helicopters of U.S. registry. The FAA estimates that operators may incur the following costs in order to comply with this AD. Labor costs are estimated at $85 per work-hour.

Determining the total hours TIS of a T/R blade, re-identifying the P/N, and updating the helicopter records would take about 1 work-hour for each T/R blade, for an estimated cost of $170 per helicopter and $340 for the U.S fleet.

Replacing a T/R blade would take about 8 work-hours and parts would cost about $29,110 for an estimated cost of $29,790 per T/R blade.

Authority for this Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866, and

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron, Inc.: Docket No. FAA-2020-0270; Product Identifier 2019-SW-018-AD.

(a) Comments Due Date

The FAA must receive comments by May 11, 2020.

(b) Affected ADs

None.

(c) Applicability

This AD applies to Bell Helicopter Textron, Inc. Model 205B helicopters, certificated in any category, with a tail rotor (T/R) blade part number (P/N) 212-010-750-009 or 212-010-750-105 installed.

(d) Subject

Joint Aircraft System Component (JASC) Code: 6410, Tail Rotor Blades.

(e) Unsafe Condition

This AD was prompted by flight testing and fatigue analysis that indicates that these part-numbered T/R blades sustain greater loads when used on Bell Model 205B helicopters compared to their use on other model helicopters. The FAA is issuing this AD to prevent a T/R blade from remaining in service beyond its fatigue life, resulting in failure of the T/R blade and subsequent loss control of the helicopter.

(f) Compliance

Comply with this AD within the compliance times specified, unless already done.

(g) Required Actions

(1) Before further flight, determine the total hours time-in-service (TIS) of each T/R blade and remove from service each T/R blade that has accumulated 2,500 or more hours TIS. For each T/R blade that has accumulated less than 2,500 hours TIS, do the following:

(i) Re-identify the P/N on the T/R blade data plate by vibro-etching to change the last three digits of the existing P/N as follows:

(A) For T/R blade P/N 212-010-750-009, re-identify the P/N as 212-010-750-111.

(B) For T/R blade P/N 212-010-750-105, re-identify the P/N as 212-010-750-109.

(ii) Create a component history card or equivalent record to reflect the change in P/N for each T/R blade, and establish a life limit of 2,500 hours TIS.

(iii) Revise the Airworthiness Limitations Section of the maintenance manual or the Instructions for Continued Airworthiness for your helicopter to establish a life limit of 2,500 hours TIS for each T/R blade P/N 212-010-750-111 and 212-010-750-109.

(2) Thereafter, except as provided in paragraph (i) of this AD, no alternative life limits may be approved for T/R blade P/N 212-010-750-009 or 212-010-750-105.

(3) After the effective date of this AD, do not install a T/R blade P/N 212-010-750-009 or 212-010-750-105 on any Model 205B helicopter unless the part number has been changed and the life limit reduced in accordance with this AD.

(h) Special Flight Permit

Special flight permits are prohibited.

(i) Alternative Methods of Compliance (AMOCs)

(1) The Manager, DSCO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. Information may be emailed to: 9-ASW-190-COS@faa.gov.

(2) Before using any approved AMOC, notify your appropriate principal inspector, or lacking a principal inspector, the manager of the local flight standards district office/certificate holding district office.

(j) Related Information

(1) For more information about this AD, contact Kuethe Harmon, Safety Management Program Manager, DSCO Branch, Compliance & Airworthiness Division, FAA, 10101 Hillwood Pkwy., Fort Worth, TX 76177; telephone 817-222-5198; email kuethe.harmon@faa.gov.

(2) For service information identified in this AD, contact Bell Helicopter Textron, Inc., P.O. Box 482, Fort Worth, TX 76101; telephone 817-280-3391; fax 817-280-6466; or at https://www.bellcustomer.com. You may view service information at the FAA, Office of the Regional Counsel, Southwest Region, 10101 Hillwood Pkwy, Room 6N-321, Fort Worth, TX 76177.

Issued on March 13, 2020.
Gaetano A. Sciortino,
Deputy Director for Strategic Initiatives, Compliance & Airworthiness Division, Aircraft Certification Service.

[FR Doc. 2020-05749 Filed 3-24-20; 8:45 am]

BILLING CODE 4910-13-P